DEPARTMENT OF ENERGY

Federal Energy Regulatory Commission

[Docket No. RP01-196-000]

Venice Gathering System, L.L.C.; Notice of Proposed Changes in FERC Gas Tariff

January 3, 2001.

Take notice that on December 22, 2000, pursuant to section 4(e) of the Natural Gas Act and the Commission's Regulations at 18 CFR 154, et seq., Venice Gathering System, L.L.C. tendered for filing as part of its FERC Gas Tariff, Original Volume No. 1, the following tariff sheet, to become effective February 1, 2001:

Second Revised Sheet No. 4

VGS states that the filing reflects proposed changes to permit recovery of VGS' proposed cost of service of $14,404,612, based on data from the base period ending September 30, 2000, as adjusted. VGS proposes a capital structure of 64.58% equity and 35.42% debt, a rate base of $48,281,117, and return on equity of 14%. The resulting FTS-2 rate of $0.0812/dth compares to VGS' existing FTS-2 rate of $0.0679. VGS requests an effective date of February 1, 2001.

VGS states that it is willing to explore non-litigation procedures, such as Alternative Dispute Resolution or settlement judge procedures. VGS requests that the Commission consider the feasibility of these options as a means of resolving this proceeding without costly and time consuming litigation.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on he web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 01-528 Filed 1-8-01; 8:45 am]

BILLING CODE 6717-01-M